Title 3—

The President

Proclamation 8239 of April 15, 2008

National Park Week, 2008

By the President of the United States of America

A Proclamation

President Franklin D. Roosevelt once said, “There is nothing so American as our National Parks.” During National Park Week, we underscore our commitment to conserving these magnificent places and recognize the many employees and volunteers who give their time and energy to keep them beautiful for all Americans to enjoy.

This year's theme for National Park Week, “Kids In Parks,” highlights youth programs and initiatives offered by the National Park Service to encourage children to be good stewards of the land. The Junior Ranger program is one such program that encourages America's youth to explore, protect, and learn about our national parks. Today, many national parks have active Junior Ranger programs. By visiting nps.gov/webrangers, young people can sign up to become WebRangers, enabling them to learn about different parks, monuments, and historic sites right from their homes.

Across the United States, the Federal Government plays a vital role in protecting our natural and historical treasures. My Administration launched the National Park Centennial Initiative to preserve and enhance these scenic wonders and to prepare for the 100th anniversary of the National Park Service in 2016. Serving as the Honorary Chair of the National Park Foundation, First Lady Laura Bush has also played a significant role in preserving our national parks. The First Lady is actively involved in programs such as First Bloom, which teaches children how to preserve native plants across America. In addition, this past Christmas, the White House highlighted our national parks with the theme “Holiday in the National Parks.”

Our National Parks belong to each of us, and they are natural places to learn, exercise, volunteer, spend time with family and friends, and enjoy the magnificent beauty of our great land. During National Park Week and throughout the year, Americans of all ages can pledge to help maintain and enhance America's national treasures for future generations.

NOW, THEREFORE, I, GEORGE W. BUSH, President of the United States of America, by virtue of the authority vested in me by the Constitution and laws of the United States, do hereby proclaim April 19 through April 27, 2008, as National Park Week. I invite all my fellow citizens to join me in celebrating America's national parks by visiting these wonderful spaces, discovering all they have to offer, and becoming active participants in park conservation.

IN WITNESS WHEREOF, I have hereunto set my hand this fifteenth day of April, in the year of our Lord two thousand eight, and of the Independence of the United States of America the two hundred and thirty-second.

[FR Doc. 08-1166

Filed 4-17-08; 8:58 am]

Billing code 3195-01-P